DEPARTMENT OF HEALTH AND HUMAN SERVICES

National Institutes of Health

National Library of Medicine; Cancellation of Meeting

Notice is hereby given of the cancellation of the National Library of Medicine Special Emphasis Panel, March 16, 2023, 11 a.m. to 3 p.m., Virtual Meeting, which was published in the Federal Register on October 6, 2022, 87 FR 193 Page Number 60696.

This notice is being amended to announce that the meeting is cancelled and will not be rescheduled.

Dated: November 16, 2022.
Miguelina Perez,
Program Analyst, Office of Federal Advisory Committee Policy.

[FR Doc. 2022-25317 Filed 11-18-22; 8:45 am]

BILLING CODE 4140-01-P